DEPARTMENT OF EDUCATION

National Advisory Council on Indian Education; Meeting

AGENCY: National Advisory Council on Indian Education (NACIE), U. S. Department of Education.

ACTION: Announcement of an open meeting.

SUMMARY: This notice sets forth the agenda for an upcoming public meeting of the National Advisory Council on Indian Education (NACIE). Notice of the meeting is required by section 10(a)(2) of the Federal Advisory Committee Act (FACA) and is intended to notify members of the public who may be interested in attending.

DATES: The NACIE meeting will be held on February 13-14, 2020 at the National Museum of the American Indian, Fourth Street & Independence Avenue SW, Washington, DC 20560, 4th Floor Meeting Room on February 13, 2020-10:00 a.m.-5:00 p.m. (EST) and February 14, 2020-9:00 a.m.-4:00 p.m.(EST).

FOR FURTHER INFORMATION CONTACT: Angeline Boulley, Director of the Office of Indian Education (OIE)/Designated Federal Official, Office of Elementary and Secondary Education (OESE), U.S. Department of Education, 400 Maryland Avenue SW, Washington, DC 20202. Telephone: 202-453-7042, Email: Angeline.Boulley@ed.gov.

SUPPLEMENTARY INFORMATION:

Statutory Authority and Function: NACIE is authorized by § 6141 of the Elementary and Secondary Education Act of 1965. NACIE is established within the U.S. Department of Education to advise the Secretary of Education (Secretary) and the Secretary of Interior on the funding and administration (including the development of regulations, and administrative policies and practices) of any program over which the Secretary has jurisdiction and includes Indian children or adults as participants or that may benefit Indian children or adults, including any program established under Title VI, Part A of the Elementary and Secondary Education Act. In addition, NACIE advises the White House Initiative on American Indian and Alaska Native Education, in accordance with section 5(a) of Executive Order 13592. NACIE submits to the Congress each year a report on the activities of the Council that includes recommendations that are considered appropriate for the improvement of Federal education programs that include Indian children or adults as participants or that may benefit Indian children or adults, and recommendations concerning the funding of any such program.

Meeting Agenda: The purpose of the meeting is to convene NACIE to conduct the following business:

February 13

(1) Welcome and Introductions; (2) Update from the Office of Elementary and Secondary Education; (3) Presentation-White House Initiative on American Indian and Alaska Native Education (WHIAIANE); (4) Presentation-Director of the National Indian Education Association(NIEA); (5) Presentation-National Comprehensive Center

February 14

(1) Presentation-Office of Indian Education; (2) Presentation-Expanding Education Options for Indian Children; (3) Presentation-Bureau of Indian Education; (4) Discussion of Data Requests for the 2020 NACIE Annual Report to Congress; (5) Discussion on NACIE Vacancies; (6) Confirmation of NACIE Calendar for 2020-2021; and (7) Public Comments.

Access to the Meeting: All attendees must RSVP for the meeting to ensure there is sufficient space to accommodate everyone. Please RSVP via email to Angeline.Boulley@ed.gov no later than February 11, 2020. There will be online and teleconference capabilities for individuals who would like to remotely attend the meeting. Adobe Connect hyperlink inserted: NACIE Meeting

To copy and paste the hyperlink into browser: https://tribaltech.adobeconnect.com/rlsrws0as4df/.

Adobe Connect Meeting Code: 6241321.

To join by telephone use call-in toll-free number 1-800-832-0736.

Public Comment: If you would like to provide public comment, please submit your request no later than February 11, 2020 to Angeline.Boulley@ed.gov. Public comments will be heard in the order of requests received. Speakers will have up to five (5) minutes to provide a comment, with a one-hour maximum time limit for all public comments. Members of the public interested in submitting written comments may do so via email at Angeline.Boulley@ed.gov. Comments should pertain to the work of NACIE and/or the Office of Indian Education.

Reasonable Accommodations: The hearing site is accessible to individuals with disabilities. If you will need an auxiliary aid or service to participate in the meeting (e.g., interpreting service, assistive listening device, or materials in an alternate format), notify Brandon Dent on 202-453-6450 or at brandon.dent@ed.gov no later than February 7, 2020. Although we will attempt to meet a request received after the request due date, we may not be able to make available the requested auxiliary aid or service because of insufficient time to make arrangements.

Access to Records of the Meeting: The Department will post the official report of the meeting on the OESE website at: https://oese.ed.gov/offices/office-of-indian-education/ 21 days after the meeting. Pursuant to the FACA, the public may also inspect NACIE records at the Office of Indian Education, United States Department of Education, 400 Maryland Avenue SW, Washington, DC 20202, Monday-Friday, 8:30 a.m. to 5:00 p.m. Eastern Time. Please email to schedule an appointment. Wanda.Lee@ed.gov or by calling Wanda Lee at (202) 3453-7262 to schedule an appointment.

Electronic Access to this Document: The official version of this document is the document published in the Federal Register. Free internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: § 6141 of the Elementary and Secondary Education Act of 1965 (ESEA) as amended by Every Student Succeeds Act (ESSA) (20 U.S.C. 7471).

Frank T. Brogan,
Assistant Secretary for Elementary and Secondary Education.

[FR Doc. 2020-01613 Filed 1-29-20; 8:45 am]

BILLING CODE 4000-01-P